ENVIRONMENTAL PROTECTION AGENCY

[FRL-10777-01-OMS]

Request for Nominations to the Good Neighbor Environmental Board

AGENCY: Environmental Protection Agency (EPA).

ACTION: Notice of request for nominations.

SUMMARY: The U.S. Environmental Protection Agency (EPA) invites nominations from a diverse range of qualified candidates to be considered for appointment to its Good Neighbor Environmental Board. Approximately ten vacancies are expected to be filled by December 2023. For appointment consideration, nominations should be submitted by May 31, 2023. Sources in addition to this Federal Register Notice may also be utilized in the solicitation of nominees.

FOR FURTHER INFORMATION CONTACT: Eugene Green, Designated Federal Officer, Office of Resources and Business Operations, Federal Advisory Committee Management Division, U.S. Environmental Protection Agency, telephone 202-564-2432.

SUPPLEMENTARY INFORMATION:

Background: GNEB is a federal advisory committee chartered under the Federal Advisory Committee Act, Public Law 92-463. GNEB was created in 1992 by the Enterprise for the Americas Initiative Act, Public Law 102-532, 7 U.S.C. 5404. Implementing authority was delegated to the Administrator of EPA under Executive Order 12916 and was continued under the authority of Executive Order 14048, dated September 30, 2021. The GNEB is charged by statute with submitting an annual report to the President on the need for implementation of environmental and infrastructure projects within the states contiguous to the U.S.-Mexico border. The statute calls for the GNEB to have representatives from U.S. Government agencies; the governments of the states of Arizona, California, New Mexico, and Texas; and tribal and private organizations with experience in environmental and infrastructure issues along the U.S.-Mexico border. Members are appointed by the EPA Administrator for a two-year term. The GNEB meets approximately three times annually and the average workload for committee members is approximately 10 to 15 hours per month. Members serve on the committee in a voluntary capacity. Although we are unable to offer compensation or an honorarium, members may receive travel and per diem allowances, according to applicable Federal travel regulations and the agency's budget.

The EPA is seeking nominations from a variety of sectors along the U.S.-Mexico border including representatives from business and industry, academia, non-governmental organizations, local, county, and Tribal governments.

According to the mandates of FACA, committees are required to support diversity across a broad range of constituencies, sectors, and groups. In accordance with Executive Order 14035 (June 25, 2021) and consistent with law, EPA values and welcomes opportunities to increase diversity, equity, inclusion, and accessibility on its federal advisory committees. EPA's federal advisory committees strive to have a workforce that reflects the diversity of the American people.

To learn more about the GNEB, please visit https://www.epa.gov/faca/gneb.

The following criteria will be used to evaluate nominees:

• Representative of a sector or group that helps to shape border-region environmental policy or represents a group that is affected by border region environmental policy

• Has extensive professional knowledge and experience with the issues that the GNEB examines (i.e., environmental and infrastructure issues), including the bi-national dimension of these issues

• Demonstrates senior level experience that will bring a new and relevant approach to the board's deliberations

• Ability to work in a consensus building process with a wide range of representatives from diverse constituencies

• Ability to contribute approximately 10 to 15 hours per month to the GNEB's activities, including the attendance at meetings and participating in the development of advice letters/reports

• Demonstrate the potential for active and constructive involvement in the GNEB's work

How to Submit Nominations: Any interested person or organization may nominate qualified individuals to be considered for an appointment to serve on the GNEB. Individuals may self-nominate.

• Nominations must include: (1) a statement of interest, (2) resume or curriculum vitae (CV) and (3) a short biography describing professional and educational qualifications, including a list of relevant activities and any current or previous service on advisory committees as well as the nominee's current business address, email address, and daytime telephone number. The statement of interest should describe how the nominee's background, knowledge, and experience would add value to the committee's work, and how the individual's qualifications would contribute to the overall diversity of the GNEB. To help the Agency in evaluating the effectiveness of its outreach efforts, please include in the statement of interest how you learned of this opportunity.

• Nominees from the academic sector should also provide a letter of support authorizing the applicant to represent the views of a particular school/college (e.g., School of Environmental Science or College of Engineering) within the institution's system

• Please be aware that EPA's policy is that, unless otherwise prescribed by statute, members generally are appointed for a two-year term. For appointment consideration, interested nominees should submit the application materials electronically via email to Eugene Green at green.eugene@epa.gov with the subject line GNEB, COMMITTEE APPLICATION PACKAGE 2023 for (Name of Nominee) by May 31, 2023.

Dated: March 14, 2023.
Eugene Green,
Program Analyst.

[FR Doc. 2023-05596 Filed 3-17-23; 8:45 am]

BILLING CODE 6560-50-P